DEPARTMENT OF COMMERCE

National Telecommunications and Information Administration

[Docket No.: 0907141137-0222-10]

RIN 0660-ZA28

Broadband Technology Opportunities Program

AGENCY: National Telecommunications and Information Administration, U.S. Department of Commerce.

ACTION: Notice of Funds Availability; Reopening of Application Filing Window for Broadband Technology Opportunities Program Comprehensive Community Infrastructure Projects.

SUMMARY: The National Telecommunications and Information Administration (NTIA) announces the limited reopening of the Comprehensive Community Infrastructure (CCI) application filing window for the Broadband Technology Opportunities Program (BTOP) that the agency established pursuant to the American Recovery and Reinvestment Act of 2009 (Recovery Act). Entities that have received waiver authority from the Federal Communications Commission (FCC) to use the 763-768/793-798 MHz (700 MHz) public safety broadband spectrum by the date of this Notice are invited to file a BTOP application and request BTOP funding.

DATES: All applications for funding CCI projects under this Notice must be submitted between June 1, 2010, at 8 a.m. Eastern Daylight Time (EDT) and July 1, 2010, at 5 p.m. EDT.

ADDRESSES: All applicants are required to submit their applications electronically at https://applyonline.broadbandusa.gov. See SUPPLEMENTARY INFORMATION for more details. The CCI application package for electronic submissions is available at http://www.ntia.doc.gov/broadbandusa/.

FOR FURTHER INFORMATION CONTACT: For general inquiries regarding BTOP, contact Anthony G. Wilhelm, PhD, Director, BTOP, Office of Telecommunications and Information Applications, NTIA, U.S. Department of Commerce, 1401 Constitution Avenue, NW., HCHB, Room 4887, Washington, DC 20230; BTOP Help Desk e-mail: btop@ntia.doc.gov; BTOP Help Desk telephone: 1-202-482-2048. Additional information regarding BTOP, including information regarding compliance issues, may be obtained at http://www.ntia.doc.gov/broadbandusa/.

Authority: This Notice is issued pursuant to the American Recovery and Reinvestment Act of 2009, Pub. L. 111-5, 123 Stat. 115 (2009).

SUPPLEMENTARY INFORMATION:

I. Background

A. Second Round of BTOP Funding

On January 22, 2010, NTIA published a Notice of Funds Availability and Solicitation of Applications (Second NOFA) in the Federal Register announcing general policy and application procedures for the second round of BTOP funding.¹ The filing deadline for CCI applications under the Second NOFA closed on March 26, 2010.² Under the Recovery Act, one of the core purposes of BTOP is to fund the advancement of broadband initiatives to support public safety agencies.³ The Recovery Act also provides that the Assistant Secretary for Communications and Information may make competitive grants to “construct and deploy broadband facilities that improve public safety broadband communications services.” ⁴ While NTIA received a limited number of public safety-related applications in the second round, some applicants may have been deterred from filing because, inter alia, they lacked the legal authority to use the 700 MHz public safety broadband spectrum.

¹ Notice of Funds Availability and Solicitation of Applications, 75 FR 3792 (Jan. 22, 2010).

² Notice of Funds Availability; Extension of Application Closing Deadline for Comprehensive Community Infrastructure (CCI) Projects, 75 FR 10464 (Mar. 8, 2010); Notice of Funds Availability; Extension of Application Closing Deadline for Comprehensive Community Infrastructure (CCI) Projects, 75 FR 14131 (Mar. 24, 2010).

³ American Recovery and Reinvestment Act of 2009, Public Law No. 111-5, § 6001(b), 123 Stat. 115, 512-13 (2009) (Recovery Act).

⁴ Id. § 6001(g)(5), 123 Stat. at 514.

B. Reopening the Application Window

On May 11, 2010, the FCC adopted an order authorizing the early deployment of public safety broadband networks in the 700 MHz public safety broadband spectrum for a number of entities that had petitioned for waiver authority for such relief.⁵ To further the objectives of the Recovery Act and to help ensure that the core statutory purposes of BTOP are achieved, NTIA finds that, given these extraordinary circumstances, a limited reopening of the CCI application filing window is in the best interest of the federal government.⁶ Accordingly, NTIA reopens the CCI application filing window to those entities that meet the eligibility criteria in the Second NOFA and that have received authority from the FCC by the date of this Notice to seek to use the 700 MHz public safety broadband spectrum to deploy a public safety broadband system.⁷ NTIA is limiting eligibility under this Notice to this group of entities to help ensure that all BTOP grant funds can be obligated by the statutory deadline of September 30, 2010; ⁸ to provide the public safety community with the opportunity to obtain funding for an initial set of networks to support current NTIA efforts to test new standards and technologies that eventually will support a nationwide interoperable public safety broadband network; and to provide an opportunity to submit an application to entities that may have been discouraged from applying for BTOP funding because they did not have the legal authority to use the 700 MHz spectrum. Entities that received a FCC waiver and that already have applied for the second round of BTOP funding are not required to reapply during this new window.

⁵ Requests for Waiver of Various Petitioners to Allow the Establishment of 700 MHz Interoperable Public Safety Wireless Broadband Networks, Order, PS Dkt. No. 06-229, FCC 10-79 (adopted May 11, 2010) (Waiver Order), available at http://hraunfoss.fcc.gov/edocs_public/attachmatch/FCC-10-79A1.pdf.

⁶ In the Second NOFA, NTIA anticipated that it might wish to reopen the application window at some point in the future and specifically put applicants on notice that there may be another solicitation. See Second NOFA, 75 FR at 3799.

⁷ See Waiver Order, at Appendix A.

⁸ See Recovery Act § 6001(d)(2), 123 Stat. at 513.

C. 700 MHz Public Safety Broadband Network

A public safety broadband network utilizing the 700 MHz public safety broadband spectrum will increase the nationwide interoperable broadband communications capabilities of first responders and public safety agencies by improving the ability of public safety entities to utilize applications made possible by broadband technologies. It also will improve public safety communications by providing dedicated broadband capacity for public safety uses and creating a statutorily required interoperability framework for use across the United States. The FCC's National Broadband Plan recognized that broadband technologies have the potential to revolutionize emergency response wireless mobile communications and outlined recommendations for moving 700 MHz spectrum activities forward.⁹ Consistent with the FCC's recommendation, NTIA and the National Institute of Standards and Technology (NIST) are working on a joint initiative, the Public Safety 700 MHz Demonstration Network within the Public Safety Communications Research (PSCR) program, to provide a platform to test and evaluate systems and to help enable deployment of a nationwide interoperable public safety broadband network.¹⁰ This limited reopening of the BTOP CCI application filing window will help support the efforts of NTIA and NIST and the testing, development, and implementation of a 700 MHz public safety broadband network.

⁹ Federal Communications Commission (FCC) National Broadband Plan, ch. 16 (March 17, 2010), available at http://download.broadband.gov/plan/national-broadband-plan-chapter-16-public-safety.pdf.

¹⁰ See Public Safety Communications Research, Projects, at http://www.pscr.gov/projects/broadband/700mhz/700mhz.php.

Pursuant to the eligible cost provisions set forth in the Second NOFA, NTIA may award grants that will fund critical expenditures related to the deployment of a 700 MHz public safety broadband network, including the acquisition of broadband radio access network components (such as antennas, base station nodes, transceivers, amplifiers, and remote radio heads) and costs associated with the hardening of existing cell sites (such as installing backup power and enhancing security measures).¹¹ Grant awards also may be used to fund costs to lease wireline or wireless network infrastructure from existing commercial infrastructure to facilitate broadband connectivity for a 700 MHz public safety broadband network, including backhaul from cell sites and any associated installation charges paid to a vendor.

¹¹ See Second NOFA, 75 FR at 3799.

By facilitating the expansion of broadband communications services to public safety agencies, BTOP advances the objectives of the Recovery Act to increase economic efficiency by spurring technological advances, to invest in infrastructure that will provide long-term economic benefits, and to support stabilization of state and local government budgets in an effort to avoid reductions in essential services. Deployment of a public safety broadband network in the 700 MHz band also will enhance emergency response capabilities through support of broadband-enabled applications, including: streaming video (surveillance, remote monitoring); digital imaging; automatic vehicle location; computer-aided dispatching; electronic mail; mapping and GPS; remote database access; report management system access; text messaging; telemetry/remote diagnostics; and Web access.

Moreover, the 700 MHz public safety broadband network will support applications that existing narrowband and wideband data technologies cannot support. The network will allow public safety personnel to exchange mission-critical information in real time on a common operating platform, enhancing incident response and first-responder safety.

D. FCC 700 MHz Waiver Order

In 2007, the FCC chose the Public Safety Spectrum Trust Corporation (PSST) as the Public Safety Broadband Licensee for the 10 MHz of 700 MHz public safety broadband spectrum.¹² On May 11, 2010, the FCC adopted an order that permits certain state and local governmental entities to deploy public safety broadband systems using the 700 MHz spectrum licensed to the PSST.¹³ The FCC's order now allows these entities to expeditiously enter into leases with the PSST for use and development of public safety broadband networks. Applicants filing under this Notice are subject to the provisions of the FCC's order and any subsequent rules adopted by the FCC regarding the use of 700 MHz spectrum, including those rules that are designed to ensure compatibility and interoperability of public safety networks.¹⁴

¹² Implementing a Nationwide, Broadband, Interoperable Public Safety Network in the 700 MHz Band, Order, 22 F.C.C. Rcd. 20453 (2007).

¹³ See Waiver Order.

¹⁴ Id. at 12-13. For example, the FCC requires the entities subject to the order to adhere to the technical criteria that the Emergency Response Interoperability Center will establish through rules adopted by the FCC or the Public Safety and Homeland Security Bureau.

By reopening the CCI application window only to eligible entities that have received waiver authority from the FCC to enter into a lease to use 700 MHz spectrum, NTIA acknowledges that these entities may have been discouraged from filing a BTOP application during the first two BTOP funding rounds because they did not have the legal authority to use the spectrum before the filing deadlines. Because applicants filing under this Notice will be subject to the same general policies and terms as other CCI applicants in the second round, this limited reopening will not advantage or disadvantage either those entities eligible under this Notice or those that have filed applications earlier under the Second NOFA.

II. Application and Submission Information

A. Second NOFA Requirements

All applicants submitting BTOP applications pursuant to this Notice are subject to the requirements set forth in the Recovery Act and the Second NOFA. In addition, applicants should review the application guidance, workshop presentations, and “Frequently Asked Questions” located at http://www.ntia.doc.gov/broadbandusa/ to help them submit their applications and understand BTOP requirements. As required by the CCI application, applicants must provide documentation that their request for a waiver authorizing use of the 700 MHz public safety spectrum has been granted by the FCC. NTIA will reject applications from entities other than those who are authorized to use the 700 MHz public safety broadband spectrum.

B. Filing Deadline

The application window will be open for filing between June 1, 2010, at 8 a.m. EDT and July 1, 2010, at 5 p.m. EDT. NTIA recognizes that this is a short application window given the complexity of CCI projects, particularly if they include a 700 MHz component. Nevertheless, to ensure that NTIA can fairly administer the program, comply with the requirements set forth in the Second NOFA, and obligate funds before September 30, 2010, NTIA will limit the filing window to this period.

C. Filing Instructions

As stated in the Second NOFA, electronic submissions of applications will allow for the expeditious review of an applicant's proposal consistent with the goals of the Recovery Act. As a result, all applicants are required to submit their applications electronically at https://applyonline.broadbandusa.gov. The electronic application system will provide a date-and-time-stamped confirmation number that will serve as proof of submission. Please note that applications will not be accepted via paper, facsimile machine transmission, electronic mail, or other media format. Applicants, however, may request a waiver of these filing instructions pursuant to Section X.N. of the Second NOFA.¹⁵

¹⁵ Additional guidance for seeking a waiver of the electronic filing requirements can be found in the CCI Grant Guidance at http://www.ntia.doc.gov/broadbandusa/. Note that the CCI Grant Guidance includes key submission dates. These dates have been superseded by the dates contained in this Notice.

Dated: May 13, 2010.
Anna M. Gomez,
Acting Assistant Secretary for Communications and Information.

[FR Doc. 2010-11898 Filed 5-18-10; 8:45 am]

BILLING CODE 3510-60-P